NATIONAL SCIENCE FOUNDATION

Advisory Committee for Computer and Information Science and Engineering; Notice of Meeting

In accordance with the Federal Advisory Committee Act (Pub. L. 92-463, as amended), the National Science Foundation (NSF) announces the following meeting:

Name and Committee Code: Advisory Committee for Computer and Information Science and Engineering (CISE) (1115).

Date and Time: June 7, 2018: 12:30 p.m. to 5:30 p.m., June 8, 2018: 8:30 a.m. to 12:30 p.m.

Place: National Science Foundation, 2415 Eisenhower Avenue, Room C2020, Alexandria, VA 22314.

Type of Meeting: Open.

Contact Person: Brenda Williams, National Science Foundation, 2415 Eisenhower Avenue, Alexandria, VA 22314; Telephone: 703-292-8900.

Purpose of Meeting: To advise NSF on the impact of its policies, programs and activities on the CISE community. To provide advice to the Assistant Director for CISE on issues related to long-range planning, and to form ad hoc subcommittees and working groups to carry out needed studies and tasks.

Agenda

• NSF and CISE updates

• Discussion on NSF Big Ideas

• Discussion on CISE's center-scale investments

• Discussion on cloud computing and CISE research and education

• Broadening Participation in Computing update

Dated: May 7, 2018.
Crystal Robinson,
Committee Management Officer.

[FR Doc. 2018-09961 Filed 5-9-18; 8:45 am]

BILLING CODE 7555-01-P